RAILROAD RETIREMENT BOARD

Notice of Public Meeting; Sunshine Act

The meeting of the Railroad Retirement Board which was to be held on April 3, 2002, 10 a.m. at the Board's meeting room on the 8th floor of its headquarters building, 844 North Rush Street, Chicago, Illinois, 60611, has been canceled.

The person to contact for more information is Beatrice Ezerski, Secretary to the Board, Phone No. 312-751-4920.

Dated: April 1, 2002.
Beatrice Ezerski,
Secretary to the Board.

[FR Doc. 02-8215 Filed 4-2-02; 10:19 am]

BILLING CODE 7905-01-M